DEPARTMENT OF HEALTH AND HUMAN SERVICES

Health Resources and Services Administration

Statement of Organization, Functions and Delegations of Authority

This notice amends part R of the Statement of Organization Functions and Delegations of Authority of the Department of Health and Human Services (DHHS), Health Resources and Services Administration (HRSA) as most recently amended at (60 FR 56605, November 6, 1995 as last amended at 65 FR 70358-9, dated November 22, 2000).

This notice is to amend the functional statement for the Office of the Administrator. The Center for Quality will operate from the Immediate Office of the Administrator. Although not part of the formal organizational structure, this center provides a flexible, mechanism for HRSA to focus on significant projects and crosscutting efforts. This notice also reflects the organizational changes in the Office of Planning, Evaluation and Legislation (RA5); establishes the Office of International Health Affairs (RAD); and changes the Center for Managed Care to the Center for Health Services Financing and Managed Care (RAC).

Section RA-00, Mission

The Health Resources and Services Administration (HRSA) directs national health programs which improve the health of the Nation by assuring quality health care to underserved, vulnerable and special-need populations and by promoting appropriate health professions workforce capacity and practice, particularly in primary care and public health.

Section RA-10 Organization

The Office of the Administrator is headed by the Administrator, Health Resources and Services Administration (OA) who reports directly to the Secretary. The OA includes the following components:

(1) Immediate Office of the Administrator (RA);

(2) Office of Equal Opportunity and Civil Rights (RA2);

(3) Office of Planning, Evaluation and Legislation (RA5);

(4) Office of Communications (RA6);

(5) Office of Minority Health (RA9);

(6) Office for the Advancement of Telehealth (RAB);

(7) Center for Health Services Financing and Managed Care (RAC); and

(8) Office of International Health Affairs (RAD)

A. Amend the functional statement for the Immediate Office of the Administrator.

Immediate Office of the Administrator (RA)

Leads and directs programs and activities of the Agency and advises the Office of the Secretary of Health and Human Services on policy matters concerning them; (2) provides consultation and assistance to senior Agency officials and others on clinical and health professional issues; (3) serves as the Agency's focal point on efforts to strengthen the practice of public health as it pertains to the HRSA mission; and (4) establishes and maintains communications with health organizations in the public and private sectors to support the mission of HRSA.

B. In the Office of Planning, Evaluation and Legislation (RA5) amend the functional statements for the Immediate Office of the Director, the Division of Information and Analysis and establish the Division of Data Policy as follows:

Immediate Office of the Director (RA5)

Serves as the Administrator's primary staff unit for coordinating the agency's strategic, evaluation and research planning processes; (2) oversees communication and maintains liaison between the Administrator, other OPDIVs, higher levels of the Department and other Departments on all matters involving analysis of program policy undertaken in the Agency; (3) prepares policy analysis papers and other planning documents as required in the Administration's strategic planning process; (4) analyzes budgetary data with regard to planning guidelines; (5) collaborates with Office of Management and Program Support in the development of budgets, performance plans, and performance reports required under the Government Performance and Results Act (GPRA); and (6) coordinates activity related to the prevention agenda and Healthy People 2010 activities; and analyzes and coordinates the information needs of the agency.

Division of Information and Analysis (RA52)

Serves as the Administrator's primary staff unit and principal source of advice on program information and analysis; (2) oversees communications between the Administrator and higher levels of the Department on all matters that involve analysis of program policy; (3) maintains liaison with other Federal and non-federal health agencies on matters within its area of responsibility; (4) in conjunction with the Director of Planning and Evaluation, provides technical assistance to support the statistical, economic, cost benefit, and other scientific analyses of policy questions undertaken in the Agency; (5) supports development of long-range objectives and strategies; (6) assesses and analyzes trends and makes forecasts about health services systems for use in the program management and decision making process; (7) utilizes ongoing information systems to analyze data about the Agency's programs; (8) performs analyses of the impact of Agency programs on specific groups within the population, including minorities, and develops appropriate solutions to problems of illness and disease; and (9) coordinates the Administration's public use reports clearance function.

Division of Data Policy (RA54)

Serves as the Administrator's primary staff unit for coordinating the HRSA program-related information needs of the agency; (2) identifies for the Administrator data required for use in the management and direction of Agency programs; (3) coordinates ongoing information systems which make available data for analysis of the Agency's programs; (4) in conjunction with the Office of Information Technology and agency programs, coordinates the data content of new information management systems and the agency data warehouse; (5) develops and coordinates a program-specific information strategy for the agency; (6) develops an agency approach to optimizing geographic information systems (GIS) technology for internal use; (7) coordinates cross-cutting data activities such as the HRSA State Profiles; and (8) maintains liaison with other Federal and non-Federal health agencies on matters within its areas of responsibility.

C. Establish the Office of International Health Affairs in the Office of the Administrator to read as follows:

The Office of International Health Affairs (RAD)

The Office of International Health Affairs serves as the focal point within the Health Resources and Services Administration (HRSA) for leadership, coordination, and advancement of international health activities relating to health care services for vulnerable and at-risk populations and for training programs for health professionals. The Office carries out the following functions in coordination with the Department and State Department and to the extent authorized by laws within the authority of HRSA. Specifically: Provides leadership within HRSA for the coordination of and support for international health in coordinating policy development with other Departmental agencies; (2) provides technical and other support to HRSA components as they interface with Departmental international health activities; (3) develops working relationships with private sector providers and HRSA grantees to assure mutual areas of cooperation, maximization of expertise and coordination as it relates to international health (4) advises the HRSA Administrator on strategies to maximize the participation of the Agency and its Bureaus in international health programs and activities; (5) works with foundations, private agencies and other Federal, State, and local agencies for the effective development of policies and resources relating to health care for vulnerable populations world-wide; and (6) coordinates international travel and visitor programs within the jurisdiction of HRSA.

D. Change the name of the Center for Managed Care to the Center for Health Services Financing and Managed Care. The functions for this organization have not changed.

Delegations of Authority

All delegations and redelegations of authority which were in effect immediately prior to the effective date hereof, have been continued in effect in them or their successors pending further redelegation.

Dated: January 17, 2001.
This reorganization is effective upon date of signature.
Claude Earl Fox,
Administrator.

[FR Doc. 01-2585 Filed 1-30-01; 8:45 am]

BILLING CODE 4160-15-U